DEPARTMENT OF TRANSPORTATION

National Highway Traffic Safety Administration

[Docket No. NHTSA-2004-18039]

Reports, Forms, and Recordkeeping Requirements

AGENCY: National Highway Traffic Safety Administration (NHTSA), Department of Transportation.

ACTION: Request for public comment on a proposed collection of information.

SUMMARY: Before a Federal agency can collect certain information from the public, it must receive approval from the Office of Management and Budget (OMB). Under procedures established by the Paperwork Reduction Act of 1995, as part of the OMB approval process, Federal agencies must solicit public comments on proposed collections of information.

This document describes a collection of information for which NHTSA seeks emergency processing for approval.

DATES: Comments must be received on or before August 16, 2004.

ADDRESSES: You should mention the docket number of this document in your comments and submit your comments in writing to: Docket Management, Room PL-401, 400 Seventh St., SW., Washington, DC 20590.

You may call the Docket at 202-366-9324. You may visit the Docket from 10 a.m. to 5 p.m., Monday through Friday, except for Federal holidays.

FOR FURTHER INFORMATION CONTACT: Ms. Dorothy Nakama, Office of the Chief Counsel, at (202) 366-2992. Her Fax number is: (202) 366-3820. You may send mail to her at the National Highway Traffic Safety Administration, 400 Seventh Street, SW., Washington, DC 20590.

SUPPLEMENTARY INFORMATION: Under the Paperwork Reduction Act of 1995, before an agency submits a proposed collection of information to OMB for approval, it must publish a document in the Federal Register providing a 60-day public comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks for public comment on the following collection of information.

Information To Ensure Safety of Hydrogen Fueled Vehicles

Type of Request—Emergency processing (5 CFR 1320.13).

OMB Clearance Number—None.

Form Number—This collection of information would use no standard forms.

Requested Expiration Date of Approval—90 days from date of approval.

Summary of the Collection of Information—In order to fulfill its statutory responsibility to reduce traffic accidents and deaths and injuries resulting from traffic accidents, NHTSA has begun to focus on the safe use of hydrogen as a motor vehicle fuel. To ensure that the hydrogen fueled vehicles that will soon appear on the Nation's highways meet the need for motor vehicle safety, NHTSA plans to ask motor vehicle manufacturers for information about measures each vehicle manufacturer has taken to ensure the safety of hydrogen fueled vehicles. Specifically, NHTSA will ask for information on the steps and actions the vehicle manufacturer is taking to ensure the safety of these vehicles, including refueling issues. NHTSA is also asking that the manufacturers identify those vehicle safety-related issues that they believe must be addressed in the future in order to help assure that production of hydrogen fueled vehicles are safe for public use.

Description of the Likely Respondents (Including Estimated Number, and Proposed Frequency of Response to the Collection of Information)—NHTSA will send letters to ten motor vehicle manufacturers that have plans to manufacture hydrogen fueled vehicles. This is a one time collection of information. The submission of information in response to this request will be voluntary.

Estimate of the Total Annual Reporting and Recordkeeping Burden Resulting from the Collection of Information—NHTSA estimates that it will take each manufacturer 30 hours to provide information on safety in its hydrogen fueled vehicles. Thus, NHTSA estimates that the total burden hours on the public will be 300 hours. There are no recordkeeping burdens associated with this collection.

Authority: 44 U.S.C. 3506(c); delegation of authority at 49 CFR 1.50.

Issued on: June 9, 2004.
Jacqueline Glassman,
Chief Counsel.

[FR Doc. 04-13472 Filed 6-14-04; 8:45 am]

BILLING CODE 4910-59-P